DEPARTMENT OF HEALTH AND HUMAN SERVICES

National Institutes of Health

Prospective Grant of Exclusive License; Devices for Clearing Mucus From Endotracheal Tubes

AGENCY: National Institutes of Health, Public Health Service, HHS.

ACTION: Notice.

SUMMARY: This is notice, in accordance with 35 U.S.C. 209(c)(1) and 37 CFR 404.7(a)(1)(i), that the National Institutes of Health (NIH), Department of Health and Human Services (HHS), is contemplating the grant of a worldwide exclusive license, to practice the invention embodied in: HHS Ref. No. E-074-2005/0 “Mucus Slurping Endotracheal Tube”; U.S. Patent 7,503,328 to Oculus Innovative Sciences, Inc., a company incorporated under the laws of the State of California having its headquarters in Petaluma, California. The United States of America is the assignee of the rights of the above inventions. The contemplated exclusive license may be granted in a field of use limited to devices for clearing mucus from endotracheal tubes.

DATES: Only written comments and/or applications for a license received by the NIH Office of Technology Transfer on or before July 22, 2011 will be considered.

ADDRESSES: Requests for a copy of the patent application, inquiries, comments and other materials relating to the contemplated license should be directed to: Michael A. Shmilovich, Esq., Office of Technology Transfer, National Institutes of Health, 6011 Executive Boulevard, Suite 325, Rockville, MD 20852-3804; Telephone: (301) 435-5019; Facsimile: (301) 402-0220; E-mail: shmilovm@mail.nih.gov. A signed confidentiality nondisclosure agreement will be required to receive copies of any patent applications that have not been published or issued by the United States Patent and Trademark Office or the World Intellectual Property Organization.

SUPPLEMENTARY INFORMATION: The patent intended for licensure covers a mucus slurping device used to remove mucus before it reaches the tip of the endotracheal tube (ETT). A continuous aspiration endotracheal tube for subglottic secretions is fitted at its distal-most tip with a molded, hollow, concentric plastic ring with 3-4 (or more) small (less than l mm in diameter) suction ports, the latter positioned in the most dependent part of the ETT. A suction line is extended to the tip of the ETT and suction was activated for approximately half of a second, synchronized to the early part of expiration; and repeated once a minute, or as desired. Studies involving intubated sheep showed that all mucus was cleared from test animal and that mucus samples collected showed no infections that typically put patients at risk for ventilator associated pneumonia.

The prospective exclusive license will be royalty bearing and will comply with the terms and conditions of 35 U.S.C. 209 and 37 CFR 404.7. The prospective exclusive license may be granted unless, within thirty (30) days from the date of this published notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: June 14, 2011.
Richard U. Rodriguez,
Director, Division of Technology Development and Transfer, Office of Technology Transfer, National Institutes of Health.

[FR Doc. 2011-15480 Filed 6-21-11; 8:45 am]

BILLING CODE 4140-01-P